DEPARTMENT OF THE INTERIOR

Bureau of Reclamation

Information Collection Activities; Proposed Information Collection; Comment Request

AGENCY: Bureau of Reclamation, Interior.

ACTION: Notice and request for comments.

SUMMARY: In accordance with the Paperwork Reduction Act of 1995 (44 U.S.C. 3501 et seq.), this notice announces that the Bureau of Reclamation (we, our, or us) intends to seek approval of the following proposed new information collection: Recreation Visitor Use Surveys. We will use several distinct forms to collect different types of recreation information. Before submitting the information collection request to the Office of Management and Budget (OMB) for approval, we are soliciting comments on specific aspects of the information collection.

DATES: Comments on this notice must be received by May 4, 2007.

ADDRESSES: Address all comments concerning this notice to Bureau of Reclamation, Office of Program and Policy Services, Attention: Darrell Welch (84-53000), PO Box 25007, Denver CO 80225-0007 or via e-mail at dwelch@do.usbr.gov.

FOR FURTHER INFORMATION CONTACT: For further information or a copy of the proposed collection of information forms, contact Darrell Welch at 303-445-2711.

SUPPLEMENTARY INFORMATION: We are requesting approval for the collection of data from recreational users of our lands, rivers, and reservoirs. To meet our needs for the collection of visitor use data, we will be requesting OMB to authorize a two-part request. The first part of the request provides us with a set of 11 pre-approved questionnaires to be administered as approved by OMB.

The second part of the request consists of OMB and the Bureau of Reclamation agreeing upon a process whereby we custom design a survey instrument to fit a specific situation or area. The custom designed survey would be created by extracting questions from the approved questionnaires as applicable to the area and issue being evaluated. Only questions included in the pre-approved questionnaires will be used. We will then submit the new survey form to OMB for expedited approval.

Title: Recreation Visitor Use Surveys.

Abstract: The Bureau of Reclamation is responsible for recreation development at all of its reservoirs. Presently there are 300 designated recreation areas on our lands within the 17 Western States hosting almost 90 million visitors annually. Visitation to our reservoirs is increasing at an average rate of 1.2 million visitors per year, and more than 100 million people are projected to visit our reservoirs by the early twenty-first century. We must be able to respond to emerging trends, changes in the demographic profile of users, changing values, needs, wants, and desires, and conflicts between user groups. Statistically valid and up-to-date data derived from the user is essential to developing and providing recreation programs relevant to today's visitor.

Respondents: Respondents to the surveys will be members of the public engaged in recreational activities on our lands. Several surveys target people engaged in specific activities such as boating on a specific lake, or people camping at a developed campground. Visitors will primarily consist of local residents, people from large metropolitan areas in the vicinity of the lake/reservoir, and visitors from out of state.

Frequency: Varies by survey.

Estimated Total Number of Respondents: 7,350.

Estimated Number of Responses per Respondent: 1.0.

Estimated Total of Annual Responses: 7,350.

Estimated Total Annual Burden Hours on Respondents: 2,013.

Estimate of Burden for Each Form
Survey instrument | Burden estimate per survey (in minutes) | Number of surveys (times/yr.) | Number of respondents per survey | Total estimated number of respondents | Total annual hour burden
Marina Survey | 10 | 2 | 278 | 556 | 93
Campground Survey | 25 | 2 | 278 | 556 | 232
River Instream Flow Survey | 20 | 2 | 278 | 556 | 185
Reservoir Preferred Water Level Survey | 15 | 2 | 278 | 556 | 139
Lake/River Visit Expenditure Survey | 15 | 2 | 278 | 556 | 139
Recreation Activities Survey | 15 | 2 | 278 | 556 | 139
Recreation Management Survey | 15 | 2 | 278 | 556 | 139
Recreation Fee Survey | 10 | 1 | 400 | 400 | 67
Recreation Development Survey | 15 | 2 | 278 | 556 | 139
Water Level Impacts on Recreation Boating Use | 10 | 2 | 278 | 556 | 93
River Recreation Quality Survey | 20 | 2 | 278 | 556 | 185
Customized Surveys | 20 | 5 | 278 | 556 | 463
Totals |  |  |  | 7,350 | 2,013

Comments

Comments are invited on: (a) Whether the proposed collection of information is necessary for the proper performance of our functions, including whether the information will have practical use;

(b) The accuracy of our estimated time and cost burdens of the proposed new collection of information, including the validity of the methodology and assumptions used;

(c) Ways to enhance the quality, use, and clarity of the information to be collected; and

(d) Ways to minimize the burden of the collection of information on respondents, including increased use of automated collection techniques or other forms of information technology.

We will summarize all comments received regarding this notice. We will publish that summary in the Federal Register when the information collection is submitted to OMB for review and approval.

Before including your address, phone number, e-mail address, or other personal identifying information in your comment, you should be aware that your entire comment—including your personal identifying information—may be made publicly available at any time. While you can ask us in your comment to withhold your personal identifying information from public review, we cannot guarantee that we will be able to do so.

Dated: January 26, 2007.
Roseann Gonzales,
Director, Office of Program and Policy Services.

[FR Doc. E7-3765 Filed 3-2-07; 8:45 am]

BILLING CODE 4310-MN-P